NATIONAL AERONAUTICS AND SPACE ADMINISTRATION

[Notice (12-006)]

NASA Advisory Council; Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee (CSC) of the NASA Advisory Council (NAC).

DATES: Thursday, February 23, 2012, 8 a.m.-2:30 p.m., Local Time.

ADDRESSES: Marshall Space Flight Center (MSFC), Building 4200, Room P-110, Marshall Space Flight Center, AL 35812.

FOR FURTHER INFORMATION CONTACT: Mr. Thomas W. Rathjen, Human Exploration and Operations Mission Directorate, National Aeronautics and Space Administration Headquarters, 300 E Street SW., Washington, DC 20546, (202) 358-0552; thomas.w.rathjen-1@nasa.gov.

SUPPLEMENTARY INFORMATION: The agenda topics for the meeting will include:

• Overview of MSFC's Commercial Space Activities and Plans.

• Overview of KSC's Commercial Space Activities and Plans.

• Overview of SSC's Commercial Space Activities and Plans.

• Status of Commercial Orbital Transportation Services.

The meeting will be open to the public up to the seating capacity of the room. This meeting is also available telephonically and by WebEx. You must use a touch tone phone to participate in this meeting. Any interested person may dial access number, 1-(866) 731-5570 or 1-(203) 955-8963 and then enter the numeric participant passcode: 2007497 followed by the # sign. To join via WebEx the link is https://nasa.webex.com/, meeting number 998 649 018, and password naccsc@223.

It is imperative that the meeting be held on this date to accommodate the scheduling priorities of the key participants. All U.S. citizens desiring to attend the NAC CSC meeting at MSFC must provide his or her full name, company affiliation (if applicable), citizenship, place of birth, and date of birth to the MSFC Protective Services Office no later than the close of business on February 13, 2012. All non-U.S. citizens must submit his or her name, current address, citizenship, company affiliation (if applicable) to include address, telephone number, and title, place of birth, date of birth, U.S. visa information to include type, number, and expiration date, U.S. Social Security Number (if applicable), Permanent Resident Alien card number and expiration date (if applicable), place and date of entry into the U.S., and Passport information to include Country of issue, number, and expiration date to the MSFC Protective Services Office no later than the close of business on February 9, 2012. If the above information is not received by the noted dates, attendees should expect a minimum delay of two (2) hours. All visitors to this meeting will be required to process in through the Redstone/MSFC Joint Visitor Control Center located on Rideout Road, north of Gate 9 prior to entering MSFC. Please provide the appropriate data, via fax (256) 544-2101, noting at the top of the page “Public Admission to the NASA Advisory Council (NAC) Commercial Space Committee (CSC).” For security questions, please call Becky Hopson at (256) 544-4541.

Patricia D. Rausch,
Advisory Committee Management Officer, National Aeronautics and Space Administration.

[FR Doc. 2012-1760 Filed 1-26-12; 8:45 am]

BILLING CODE 7510-13-P